DEPARTMENT OF ENERGY

Federal Energy Regulatory Commission

Combined Notice of Filings

Take notice that the Commission has received the following Natural Gas Pipeline Rate and Refund Report filings:

Filings Instituting Proceedings

Docket Numbers: CP14-16-000.

Applicants: Atmos Energy Corporation.

Description: Abbreviated Application for Approval of Abandonment of Section 284.224 Blanket Certificate.

Filed Date: 11/1/13.

Accession Number: 20131101-5081.

Comments Due: 5 p.m. ET 11/22/13.

Docket Numbers: RP13-1230-000.

Applicants: El Paso Natural Gas Company, L.L.C.

Description: Refund Report in Docket Nos. RP13-1230, RP08-426, RP10-1398.

Filed Date: 11/7/13.

Accession Number: 20131107-5042.

Comments Due: 5 p.m. ET 11/19/13.

Docket Numbers: RP13-1231-000.

Applicants: El Paso Natural Gas Company, L.L.C.

Description: Refund Report in Docket Nos. RP13-1231, RP08-426, RP10-1398.

Filed Date: 11/7/13.

Accession Number: 20131107-5044.

Comments Due: 5 p.m. ET 11/19/13.

Docket Numbers: RP14-157-000.

Applicants: Northern Natural Gas Company.

Description: Northern Natural Gas files a Petition for a Limited Waiver of Northern's FERC Gas Tariff to allow resolution of an imbalance with the imbalance-to-storage mechanism for Marabou Midstream Services, LP.

Filed Date: 11/7/13.

Accession Number: 20131107-5040.

Comments Due: 5 p.m. ET 11/19/13.

Docket Numbers: RP14-159-000.

Applicants: Southern Natural Gas Company, L.L.C.

Description: Clean-up Filing—2013 to be effective 12/9/2013.

Filed Date: 11/8/13.

Accession Number: 20131108-5014.

Comments Due: 5 p.m. ET 11/20/13.

Docket Numbers: RP14-160-000.

Applicants: Gulf Crossing Pipeline Company LLC.

Description: Gulf Crossing Pipeline Company LLC submits tariff filing per 154.204: Amendment to Neg Rate Agmt (Devon 10-12) to be effective 11/11/2013.

Filed Date: 11/12/13.

Accession Number: 20131112-5001.

Comments Due: 5 p.m. ET 11/25/13.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP12-820-003.

Applicants: Texas Gas Transmission, LLC.

Description: Second Compliance Filing in Docket No. RP12-820, et al. to be effective 7/24/2013.

Filed Date: 11/8/13.

Accession Number: 20131108-5015.

Comments Due: 5 p.m. ET 11/20/13.

Docket Numbers: RP13-1105-005.

Applicants: Energy West Development, Inc.

Description: Energy West Development, Inc. submits tariff filing per 154.203: Compliance GT &#38; C sec 35 Filing to 154 to be effective 12/1/2012.

Filed Date: 11/12/13.

Accession Number: 20131112-5005.

Comments Due: 5 p.m. ET 11/25/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2013.
Nathaniel J. Davis, Sr.,
Deputy Secretary.

[FR Doc. 2013-28080 Filed 11-22-13; 8:45 am]

BILLING CODE 6717-01-P